DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 19, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 19, 2025, OFAC determined that the property and interests in property subject to U.S. jurisdiction of the following persons are blocked under the relevant sanctions authorities listed below.

Individuals:

1. FLORES DE MALPICA, Eloisa, Venezuela; DOB 01 Dec 1948; POB Tinaquillo, Venezuela; nationality Venezuela; Gender Female; Cedula No. 3989591 (Venezuela) (individual) [VENEZUELA-EO13850].

Designated pursuant to section l(a)(ii) of Executive Order 13850 of November 1, 2018, “Blocking Property of Additional Persons Contributing to the Situation in Venezuela,” 83 FR 55243, 3 CFR, 2018 Comp., p. 881, as amended by Executive Order 13857 of January 25, 2019, “Taking Additional Steps To Address the National Emergency With Respect to Venezuela,” 84 FR 509, 3 CFR 2019 Comp., p. 251 (E.O. 13850) for being responsible for or complicit in, or having directly or indirectly engaged in, any transaction or series of transactions involving deceptive practices or corruption and the Government of Venezuela or projects or programs administered by the Government of Venezuela, or to be an immediate adult family member of such a person.

2. HURTADO PEREZ, Damaris del Carmen, Venezuela; DOB 03 Jul 1975; POB Barinas, Venezuela; nationality Venezuela; Gender Female; Cedula No. 12207076 (Venezuela) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

3. MALPICA FLORES, Iriamni, Venezuela; DOB 15 Oct 1975; POB Caracas, Venezuela; nationality Venezuela; Gender Female; Cedula No. 12761280 (Venezuela) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

4. MALPICA HURTADO, Erica Patricia, Venezuela; DOB 14 Jun 2001; POB Valencia, Venezuela; nationality Venezuela; Gender Female; Cedula No. 28331171 (Venezuela) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

5. MALPICA TORREALBA, Carlos Evelio, Venezuela; DOB 20 Feb 1947; POB Tinaquillo, Venezuela; nationality Venezuela; Gender Male; Cedula No. 3056173 (Venezuela) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

6. CARRETERO NAPOLITANO, Roberto, Panama; DOB 20 Aug 1976; POB Colon, Panama; nationality Panama; Gender Male; Cedula No. 3701218 (Panama) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

7. CARRETERO NAPOLITANO, Vicente Luis, Panama; DOB 06 Oct 1966; POB Colon, Panama; nationality Panama; Gender Male; Cedula No. 3901065 (Panama) (individual) [VENEZUELA-EO13850].

Designated pursuant to section l(a)(ii) of E.O. 13850 for being responsible for or complicit in, or having directly or indirectly engaged in, any transaction or series of transactions involving deceptive practices or corruption and the Government of Venezuela or projects or programs administered by the Government of Venezuela, or to be an immediate adult family member of such a person.

Bradley T. Smith,
Director, Office of Foreign Assets Control.

[FR Doc. 2025-23778 Filed 12-23-25; 8:45 am]

BILLING CODE 4810-AL-P